OFFICE OF PERSONNEL MANAGEMENT

5 CFR Part 532

RIN 3206-AM09

Prevailing Rate Systems; Nonappropriated Fund Wage and Survey Areas

AGENCY: U.S. Office of Personnel Management.

ACTION: Final rule.

SUMMARY: The U.S. Office of Personnel Management is issuing a final rule to correct several minor formatting, spelling, and typographical errors in appendix D to subpart B of part 532—Nonappropriated Fund (NAF) Wage and Survey Areas. This document also corrects editorial or printing errors, inconsistencies, and omissions made in previously published rules. The purpose of this rule is not to make policy changes for Federal Wage System (FWS) NAF employees but rather to ensure Appendix D accurately reflects the correct wage area definitions for NAF employees as recommended by the Federal Prevailing Rate Advisory Committee (FPRAC). FWS NAF employees will not be affected by the corrections in this final rule because the lead agency for FWS NAF surveys has followed FPRAC recommended wage area definitions when conducting wage surveys and publishing wage schedules. For the convenience of the reader, Appendix D is being reprinted in its entirety.

DATES: This rule is effective on September 13, 2010.

FOR FURTHER INFORMATION CONTACT: Madeline Gonzalez, (202) 606-2838; e-mail pay-performance-policy@opm.gov; or FAX: (202) 606-4264.

SUPPLEMENTARY INFORMATION: On April 6, 2010, the U.S. Office of Personnel Management (OPM) issued a proposed rule (75 FR 17316) to make several minor corrections to appendix D to subpart B of part 532—Nonappropriated Fund (NAF) Wage and Survey Areas. The revisions contained in this rule concern formatting, spelling, and typographical errors. This document also corrects editorial or printing errors, inconsistencies, and omissions made in previously published rules. The purpose of this rule is not to make policy changes for Federal Wage System (FWS) NAF employees but rather to ensure Appendix D accurately reflects the correct wage area definitions for NAF employees as recommended by the Federal Prevailing Rate Advisory Committee (FPRAC). FWS NAF employees are not affected by the corrections in this final rule because the lead agency for FWS NAF surveys has followed FPRAC recommended wage area definitions when conducting wage surveys and publishing wage schedules. Appendix D is being reprinted in its entirety. The proposed rule had a 30-day comment period, during which OPM received no comments. Therefore, we are adopting the proposed rule as final.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
John Berry,
Director.

Accordingly, the U.S. Office of Personnel Management amends 5 CFR part 532 as follows:

PART 532—PREVAILING RATE SYSTEMS

1. The authority citation for part 532 continues to read as follows:

Authority: 5 U.S.C. 5343, 5346; § 532.707 also issued under 5 U.S.C. 552.

2. Revise appendix D to subpart B to read as follows:

Appendix D to Subpart B of Part 532—Nonappropriated Fund Wage and Survey Areas

This appendix lists the wage area definitions for NAF employees. With a few exceptions, each area is defined in terms of county units or independent cities. Each wage area definition consists of:

(1) Wage area title. Wage areas usually carry the title of the county or counties surveyed.

(2) Survey area definition. Lists each county or independent city in the survey area.

(3) Area of application definition. Lists each county or independent city which, in addition to the survey area, is in the area of application.

Definitions of Wage Areas and Wage Area Survey Areas

ALABAMA
Calhoun
Survey Area
Alabama:
Calhoun
Area of Application. Survey area plus:
Alabama:
Jefferson
Madison
Survey Area
Alabama:
Madison
Area of Application. Survey area plus:
Tennessee:
Coffee
Davidson
Hamilton
Rutherford
Montgomery
Survey Area
Alabama:
Montgomery
Area of Application. Survey area plus:
Alabama:
Dale
Dallas
Macon
ALASKA
Anchorage
Survey Area
Alaska: (borough)
Anchorage
Area of Application. Survey area plus:
Alaska: (boroughs and census areas)
Fairbanks North Star
Juneau
Kenai Peninsula
Ketchikan Gateway
Kodiak Island
Sitka
Southeast Fairbanks
Valdez-Cordova
Yukon-Koyukuk
ARIZONA
Maricopa
Survey Area
Arizona:
Maricopa
Area of Application. Survey area plus:
Arizona:
Coconino
Yavapai
Pima
Survey Area
Arizona:
Pima
Area of Application. Survey area plus:
Arizona:
Cochise
Yuma
Survey Area
Arizona:
Yuma
Area of Application. Survey area plus:
California:
Imperial
ARKANSAS
Pulaski
Survey Area
Arkansas:
Pulaski
Area of Application. Survey area plus:
Arkansas:
Jefferson
Sebastian
Washington
CALIFORNIA
Kern
Survey Area
California:
Kern
Area of Application. Survey area plus:
California:
Fresno
Kings
Los Angeles
Survey Area
California:
Los Angeles
Area of Application. Survey area.
Monterey
Survey Area
California:
Monterey
Area of Application. Survey area plus:
California:
Santa Clara
Orange
Survey Area
California:
Orange
Area of Application. Survey area.
Riverside
Survey Area
California:
Riverside
Area of Application. Survey area.
Sacramento
Survey Area
California:
Sacramento
Area of Application. Survey area plus:
California:
Yuba
Oregon:
Jackson
Klamath
San Bernardino
Survey Area
California:
San Bernardino
Area of Application. Survey area.
San Diego
Survey Area
California:
San Diego
Area of Application. Survey area.
San Joaquin
Survey Area
California:
San Joaquin
Area of Application. Survey area.
Santa Barbara
Survey Area
California:
Santa Barbara
Area of Application. Survey area plus:
California:
San Luis Obispo
Solano
Survey Area
California:
Solano
Area of Application. Survey area plus:
California:
Alameda
Contra Costa
Marin
Napa
San Francisco
Sonoma
Ventura
Survey Area
California:
Ventura
Area of Application. Survey area.
COLORADO
Arapahoe-Denver
Survey Area
Colorado:
Arapahoe
Denver
Area of Application. Survey area plus:
Colorado:
Mesa
El Paso
Survey Area
Colorado:
El Paso
Area of Application. Survey area plus:
Colorado:
Bent
Otero
Pueblo
CONNECTICUT
New London
Survey Area
Connecticut:
New London
Area of Application. Survey area plus:
Connecticut:
New Haven
DELAWARE
Kent
Survey Area
Delaware:
Kent
Area of Application. Survey area plus:
Delaware:
Sussex
Maryland:
Kent
DISTRICT OF COLUMBIA
Washington, DC
Survey Area
District of Columbia:
Washington, DC
Area of Application. Survey area.
FLORIDA
Bay
Survey Area
Florida:
Bay
Area of Application. Survey area.
Brevard
Survey Area
Florida:
Brevard
Area of Application. Survey area.
Duval
Survey Area
Florida:
Duval
Area of Application. Survey area plus:
Florida:
Alachua
Clay
Columbia
Georgia:
Camden
Escambia
Survey Area
Florida:
Escambia
Area of Application. Survey area plus:
Florida:
Santa Rosa
Hillsborough
Survey Area
Florida:
Hillsborough
Area of Application. Survey area plus:
Florida:
Pinellas
Polk
Miami-Dade
Survey Area
Florida:
Miami-Dade
Area of Application. Survey area plus:
Florida:
Palm Beach
Monroe
Survey Area
Florida:
Monroe
Area of Application. Survey area.
Okaloosa
Survey Area
Florida:
Okaloosa
Area of Application. Survey area plus:
Florida:
Walton
Orange
Survey Area
Florida:
Orange
Area of Application. Survey area.
GEORGIA
Chatham
Survey Area
Georgia:
Chatham
Area of Application. Survey area plus:
Georgia:
Glynn
Liberty
South Carolina:
Beaufort
Clayton-Cobb-Fulton
Survey Area
Georgia:
Clayton
Cobb
Fulton
Area of Application. Survey area plus:
Georgia:
Bartow
Clarke
De Kalb
Columbus
Survey Area
Georgia:
Columbus Consolidated Government
Area of Application. Survey area plus:
Georgia:
Chattahoochee
Dougherty
Survey Area
Georgia:
Dougherty
Area of Application. Survey area.
Houston
Survey Area
Georgia:
Houston
Area of Application. Survey area plus:
Georgia:
Laurens
Lowndes
Survey Area
Georgia:
Lowndes
Area of Application. Survey area.
Richmond
Survey Area
Georgia:
Richmond
Area of Application. Survey area plus:
South Carolina:
Aiken
GUAM
Guam
Survey Area
Guam
Area of Application. Survey area.
HAWAII
Honolulu
Survey Area
Hawaii:
Honolulu
Area of Application. Survey area plus:
Hawaii (counties):
Hawaii
Kauai
Maui
Pacific Islands:
Midway Islands
Johnston Atoll
American Samoa
IDAHO
Ada-Elmore
Survey Area
Idaho:
Ada
Elmore
Area of Application. Survey area.
ILLINOIS
Lake
Survey Area
Illinois:
Lake
Area of Application. Survey area plus:
Illinois:
Cook
Rock Island
Vermilion
Iowa:
Johnson
Michigan:
Dickinson
Marquette
Wisconsin:
Dane
Milwaukee
St. Clair
Survey Area
Illinois:
St. Clair
Area of Application. Survey area plus:
Illinois:
Madison
Williamson
Missouri: (city)
St. Louis
Missouri: (counties)
Jefferson
Pulaski
KANSAS
Leavenworth/Jackson-Johnson
Survey Area
Kansas:
Leavenworth
Missouri:
Jackson
Johnson
Area of Application. Survey area plus:
Kansas:
Shawnee
Missouri:
Boone
Camden
Cass
Sedgwick
Survey Area
Kansas:
Sedgwick
Area of Application. Survey area plus:
Kansas:
Geary
Saline
KENTUCKY
Christian-Montgomery
Survey Area
Kentucky:
Christian
Tennessee:
Montgomery
Area of Application. Survey area.
Hardin-Jefferson
Survey Area
Kentucky:
Hardin
Jefferson
Area of Application. Survey area plus:
Indiana:
Jefferson
Martin
Kentucky:
Fayette
Madison
Warren
LOUISIANA
Bossier-Caddo
Survey Area
Louisiana: (parishes)
Bossier
Caddo
Area of Application. Survey area plus:
Texas:
Bowie
Orleans
Survey Area
Louisiana: (parish)
Orleans
Area of Application. Survey area plus:
Louisiana: (parish)
Plaquemines
Rapides
Survey Area
Louisiana: (parish)
Rapides
Area of Application. Survey area plus:
Louisiana: (parish)
Vernon
MAINE
Cumberland
Survey Area
Maine:
Cumberland
Area of Application. Survey area plus:
Maine:
Aroostook
Hancock
Kennebec
Knox
Penobscot
Sagadahoc
Washington
York
Survey Area
Maine:
York
Area of Application. Survey area plus:
New Hampshire:
Rockingham
Vermont:
Windsor
MARYLAND
Anne Arundel
Survey Area
Maryland:
Anne Arundel
Area of Application. Survey area plus:
Maryland: (city)
Baltimore
Maryland: (county)
Baltimore
Charles-St. Mary's
Survey Area
Maryland:
Charles
St. Mary's
Area of Application. Survey area plus:
Maryland:
Calvert
Virginia:
King George
Frederick
Survey Area
Maryland:
Frederick
Area of Application. Survey area plus:
West Virginia:
Berkeley
Harford
Survey Area
Maryland:
Harford
Area of Application. Survey area plus:
Maryland:
Cecil
Montgomery-Prince George's
Survey Area
Maryland:
Montgomery
Prince George's
Area of Application. Survey area.
MASSACHUSETTS
Hampden
Survey Area
Massachusetts:
Hampden
Area of Application. Survey area plus:
Connecticut:
Hartford
Massachusetts:
Hampshire
Middlesex
Survey Area
Massachusetts:
Middlesex
Area of Application. Survey area plus:
Massachusetts:
Norfolk
Plymouth
Suffolk
New Hampshire:
Hillsborough
MICHIGAN
Macomb
Survey Area
Michigan:
Macomb
Area of Application. Survey area plus:
Michigan:
Alpena
Calhoun
Crawford
Grand Traverse
Huron
Iosco
Leelanau
Ottawa
Saginaw
Washtenaw
Wayne
Ohio:
Ottawa
MINNESOTA
Hennepin
Survey Area
Minnesota:
Hennepin
Area of Application. Survey area plus:
Minnesota:
Morrison
Murray
Ramsey
Stearns
St. Louis
Wisconsin:
Juneau
Monroe
Polk
MISSISSIPPI
Harrison
Survey Area
Mississippi:
Harrison
Area of Application. Survey area plus:
Alabama:
Mobile
Mississippi:
Forest
Jackson
Lauderdale
Survey Area
Mississippi:
Lauderdale
Area of Application. Survey area plus:
Mississippi:
Hinds
Rankin
Warren
Lowndes
Survey Area
Mississippi:
Lowndes
Area of Application. Survey area plus:
Alabama:
Tuscaloosa
MONTANA
Cascade
Survey Area
Montana:
Cascade
Area of Application. Survey area plus:
Montana:
Fergus
Flathead
Hill
Lewis and Clark
Valley
Yellowstone
NEBRASKA
Douglas-Sarpy
Survey Area
Nebraska:
Douglas
Sarpy
Area of Application. Survey area plus:
Iowa:
Marion
Polk
Woodbury
Nebraska:
Hall
Lancaster
Saunders
South Dakota:
Minnehaha
NEVADA
Churchill-Washoe
Survey Area
Nevada:
Churchill
Washoe
Area of Application. Survey area plus:
California:
Lassen
Mono
Nevada:
Mineral
Clark
Survey Area
Nevada:
Clark
Area of Application. Survey area.
NEW JERSEY
Burlington
Survey Area
New Jersey:
Burlington
Area of Application. Survey area plus:
Delaware:
New Castle
New Jersey:
Atlantic
Cape May
Ocean
Salem
Monmouth
Survey Area
New Jersey:
Monmouth
Area of Application. Survey area.
Morris
Survey Area
New Jersey:
Morris
Area of Application. Survey area plus:
New Jersey:
Somerset
Pennsylvania:
Monroe
NEW MEXICO
Bernalillo
Survey Area
New Mexico:
Bernalillo
Area of Application. Survey area plus:
New Mexico:
McKinley
Curry
Survey Area
New Mexico:
Curry
Area of Application. Survey area plus:
Texas:
Lubbock
Potter
Dona Ana
Survey Area
New Mexico:
Dona Ana
Area of Application. Survey area plus:
New Mexico:
Chaves
Otero
NEW YORK
Jefferson
Survey Area
New York:
Jefferson
Area of Application. Survey area plus:
New York:
Albany
Oneida
Onondaga
Ontario
Schenectady
Steuben
Kings-Queens
Survey Area
New York:
Kings
Queens
Area of Application. Survey area plus:
New Jersey:
Essex
Hudson
New York:
Bronx
Nassau
New York
Richmond
Suffolk
Niagara
Survey Area
New York:
Niagara
Area of Application. Survey area plus:
New York:
Erie
Genesee
Pennsylvania:
Erie
Orange
Survey Area
New York:
Orange
Area of Application. Survey area plus:
New York:
Dutchess
Westchester
NORTH CAROLINA
Craven
Survey Area
North Carolina:
Craven
Area of Application. Survey area plus:
North Carolina:
Carteret
Dare
Cumberland
Survey Area
North Carolina:
Cumberland
Area of Application. Survey area plus:
North Carolina:
Durham
Rowan
Onslow
Survey Area
North Carolina:
Onslow
Area of Application. Survey area plus:
North Carolina:
New Hanover
Wayne
Survey Area
North Carolina:
Wayne
Area of Application. Survey area plus:
North Carolina:
Halifax
NORTH DAKOTA
Grand Forks
Survey Area
North Dakota:
Grand Forks
Area of Application. Survey area plus:
North Dakota:
Cass
Cavalier
Pembina
Steele
Ward
Survey Area
North Dakota:
Ward
Area of Application. Survey area plus:
North Dakota:
Divide
OHIO
Greene-Montgomery
Survey Area
Ohio:
Greene
Montgomery
Area of Application. Survey area plus:
Indiana:
Allen
Grant
Marion
Miami
Ohio:
Clinton
Franklin
Hamilton
Licking
Ross
West Virginia:
Raleigh
Wayne
OKLAHOMA
Comanche
Survey Area
Oklahoma:
Comanche
Area of Application. Survey area plus:
Oklahoma:
Cotton
Jackson
Oklahoma
Survey Area
Oklahoma:
Oklahoma
Area of Application. Survey area plus:
Oklahoma:
Garfield
Muskogee
Pittsburg
PENNSYLVANIA
Allegheny
Survey Area
Pennsylvania:
Allegheny
Area of Application. Survey area plus:
Ohio:
Cuyahoga
Trumball
Pennsylvania:
Butler
Westmoreland
West Virginia:
Harrison
Cumberland
Survey Area
Pennsylvania:
Cumberland
Area of Application. Survey area plus:
Pennsylvania:
Blair
Franklin
Montgomery
Survey Area
Pennsylvania:
Montgomery
Area of Application. Survey area plus:
Pennsylvania:
Bucks
Chester
Luzerne
Philadelphia
York
Survey Area
Pennsylvania:
York
Area of Application. Survey area plus:
Pennsylvania:
Lebanon
PUERTO RICO
Guaynabo-San Juan
Survey Area
Puerto Rico: (municipalities)
Guaynabo
San Juan
Area of Application. Survey area plus:
Puerto Rico: (municipalities)
Aguadilla
Bayamon
Ceiba
Isabela
Ponce
Salinas
Toa Baja
Vieques
U.S. Virgin Islands:
St. Croix
St. Thomas
RHODE ISLAND
Newport
Survey Area
Rhode Island:
Newport
Area of Application. Survey area plus:
Massachusetts:
Barnstable
Nantucket
Rhode Island:
Providence
Washington
SOUTH CAROLINA
Charleston
Survey Area
South Carolina:
Charleston
Area of Application. Survey area plus:
South Carolina:
Berkeley
Horry
Richland
Survey Area
South Carolina:
Richland
Area of Application. Survey area plus:
North Carolina:
Buncombe
South Carolina:
Sumpter
Tennessee:
Washington
SOUTH DAKOTA
Pennington
Survey Area
South Dakota:
Pennington
Area of Application. Survey area plus:
Montana:
Custer
South Dakota:
Fall River
Meade
Wyoming:
Sheridan
TENNESSEE
Shelby
Survey Area
Tennessee:
Shelby
Area of Application. Survey area plus:
Arkansas:
Mississippi
Missouri:
Butler
TEXAS
Bell
Survey Area
Texas:
Bell
Area of Application. Survey area plus:
Texas:
Burnet
Coryell
Falls
Bexar
Survey Area
Texas:
Bexar
Area of Application. Survey area plus:
Texas:
Comal
Kerr
Travis
Val Verde
Dallas
Survey Area
Texas:
Dallas
Area of Application. Survey area plus:
Texas:
Fannin
Galveston
Harris
El Paso
Survey Area
Texas:
El Paso
Area of Application. Survey area.
McLennan
Survey Area
Texas:
McLennan
Area of Application. Survey area.
Nueces
Survey Area
Texas:
Nueces
Area of Application. Survey area plus:
Texas:
Bee
Calhoun
Kleberg
San Patricio
Webb
Tarrant
Survey Area
Texas:
Tarrant
Area of Application. Survey area plus:
Texas:
Cooke
Palo Pinto
Taylor
Survey Area
Texas:
Taylor
Area of Application. Survey area.
Tom Green
Survey Area
Texas:
Tom Green
Area of Application. Survey area plus:
Texas:
Howard
Wichita
Survey Area
Texas:
Wichita
Area of Application. Survey area.
UTAH
Davis-Salt Lake-Weber
Survey Area
Utah:
Davis
Salt Lake
Weber
Area of Application. Survey area plus:
Utah:
Box Elder
Tooele
Uintah
VIRGINIA
Alexandria-Arlington-Fairfax
Survey Area
Virginia: (city)
Alexandria
Virginia: (counties)
Arlington
Fairfax
Area of Application. Survey area.
Chesterfield-Richmond
Survey Area
Virginia: (city)
Richmond
Virginia: (county)
Chesterfield
Area of Application. Survey area plus:
Virginia: (cities)
Bedford
Charlottesville
Salem
Virginia: (counties)
Caroline
Nottoway
Prince George
West Virginia:
Pendleton
Hampton-Newport News
Survey Area
Virginia: (cities)
Hampton
Newport News
Area of Application. Survey area plus:
Virginia: (city)
Williamsburg
Virginia: (county)
York
Norfolk-Portsmouth-Virginia Beach
Survey Area
Virginia: (cities)
Norfolk
Portsmouth
Virginia Beach
Area of Application. Survey area plus:
North Carolina:
Pasquotank
Virginia: (cities)
Chesapeake
Suffolk
Virginia: (counties)
Accomack
Northampton
Prince William
Survey Area
Virginia:
Prince William
Area of Application. Survey area plus:
Virginia:
Fauquier
WASHINGTON
Kitsap
Survey Area
Washington:
Kitsap
Area of Application. Survey area plus:
Washington:
Clallam
Jefferson
Pierce
Survey Area
Washington:
Pierce
Area of Application. Survey area plus:
Oregon:
Clatsop
Coos
Douglas
Multnomah
Tillamook
Washington:
Clark
Grays Harbor
Snohomish
Survey Area
Washington:
Snohomish
Area of Application. Survey area plus:
Washington:
Island
King
Yakima
Spokane
Survey Area
Washington:
Spokane
Area of Application. Survey area plus:
Washington:
Adams
Walla Walla
WYOMING
Laramie
Survey Area
Wyoming:
Laramie
Area of Application. Survey area.

[FR Doc. 2010-19969 Filed 8-12-10; 8:45 am]

BILLING CODE 6325-39-P